DEPARTMENT OF JUSTICE

[AAG/A Order No. 002-2004]

Privacy Act of 1974; Systems of Records

AGENCY: United States Trustee Program, Department of Justice.

ACTION: Notice of modifications to systems of records.

SUMMARY: Pursuant to the Privacy Act of 1974 (5 U.S.C. 552a) and Office of Management and Budget Circular No. A-130, the United States Trustee Program (“USTP”), Department of Justice, proposes to modify the following existing Privacy Act systems of record:

JUSTICE/UST-001, Bankruptcy Case Files and Associated Records (last substantively revised on Sept. 23, 1999 at 64 FR 51557);

JUSTICE/UST-002, Bankruptcy Trustee Oversight Records (last substantively revised on Sept. 23, 1999 at 64 FR 51557);

JUSTICE/UST-003, U.S. Trustee Program Timekeeping Records (last substantively revised on July 26, 1999 at 64 FR 40392); and

JUSTICE/UST-004, U.S. Trustee Program Case Referral System (last substantively revised on Sept. 23, 1999 at 64 FR 51557).

By notice published on November 10, 2003, a routine use for contractors was added to each of these systems of records. See 68 FR 63819 (effective Dec. 15, 2003). Additional revisions are detailed below, and the modified systems are published, in their entirety, in this notice.

DATES: These actions will be effective April 13, 2004.

FOR FURTHER INFORMATION CONTACT: For information regarding these changes, and for general information regarding USTP's Privacy Act systems, contact Anthony J. Ciccone, FOIA/Privacy Counsel, Executive Office for United States Trustees, at (202) 307-1399.

SUPPLEMENTARY INFORMATION: USTP has made minor changes and clarifications in its existing systems of record, such as to correct typographical errors, update certain statutory references, reflect miscellaneous nomenclature changes, and update storage, safeguards, access, and related issues. In addition, these revisions add several routine uses to facilitate civil and criminal enforcement efforts, including a routine use to share data with bankruptcy case trustees for law enforcement and other agency purposes under the Bankruptcy Code and related authority.

In accordance with 5 U.S.C. 552a(e)(4) and (11), the public is given a 30-day period in which to comment; and the Office of Management and Budget (OMB), which has oversight responsibility of the Act, requires a 40-day period in which to conclude its review of the system. Therefore, please submit any comments April 5, 2004. The public, OMB, and Congress are invited to submit comments to: Mary Cahill, Management and Planning Staff, Justice Management Division, Department of Justice, 1331 Pennsylvania Ave., NW., Washington, DC 20530 (1400 National Place Building).

In accordance with 5 U.S.C. 552a(r), the Department has provided a report to OMB and Congress.

Dated: February 25, 2004.
Paul R. Corts,
Assistant Attorney General for Administration.

JUSTICE/UST-001

SYSTEM NAME:

Bankruptcy Case Files and Associated Records

SYSTEM LOCATION:

The Executive Office for United States Trustees (EOUST) and other offices of the United States Trustee Program (USTP) depending upon the judicial district where a bankruptcy case or proceeding is pending or was administered. (Office addresses can be located on the Internet at http://www.usdoj.gov/ust.)

CATEGORIES OF INDIVIDUALS COVERED BY THE SYSTEM:

Individuals and entities involved in cases or proceedings under the Bankruptcy Code (11 U.S.C. 101, et seq.), including but not limited to: Debtors; creditors; bankruptcy trustees; other parties in interest; and professionals, attorneys, and agents representing debtors, creditors, and trustees or otherwise involved in bankruptcy cases or proceedings.

CATEGORIES OF RECORDS IN THE SYSTEM:

Records in this system may include: (a) Petitions/orders for relief; (b) schedules of assets and liabilities of debtors; (c) lists of creditors; (d) statements of financial affairs; (e) operating or status reports; (f) alphabetical cross-reference index cards; (g) general correspondence regarding bankruptcy cases and proceedings; (h) miscellaneous investigative records; (i) copies of certain pleadings or other papers filed in court, including those filed by the United States Trustee Program; (j) appraisal reports; (k) names of bank depositories and amounts of funds deposited therein; (l) names of sureties and amounts of trustees' bonds; (m) tape or other recordings of creditors meetings conducted under 11 U.S.C. 341 for the purpose of examination of debtors by creditors, trustee and others; (n) plans filed under Chapter 11, 12 or 13; (o) names of persons serving as counsel, trustee, professionals, or other functionaries in bankruptcy cases and proceedings, including compensation earned or sought by each; and (p) other case-related information, such as case number, case status, case type, parties' names and other personal identifiers, social security numbers and financial account numbers, estate assets/liabilities, case filings/reports, trustee bonds, calendars of meetings and hearings, due dates of plan, schedules and other filings, creditors' committee status, attorneys/professionals' data, and trustees/examiners' data.

AUTHORITY FOR MAINTENANCE OF THE SYSTEM:

This system is established and maintained pursuant to the bankruptcy oversight and related responsibilities of the United States Trustee Program under, e.g., 28 U.S.C. 581, et seq., and 11 U.S.C. 101, et seq.

PURPOSES:

The records in this system are used by USTP personnel to determine the existence of a case, to ascertain the status of actions with respect to a case, to ensure that timely action is taken as appropriate, to determine the involvement by agents or other representatives of parties in such cases, and to facilitate the performance of U.S. Trustee Program duties under, e.g., 28 U.S.C. 581, et seq., 11 U.S.C. 101, et seq., and other legal authority.

As provided in 11 U.S.C. 107, a document filed in a case and the dockets of the bankruptcy court are public records and open to examination except when the court enters a protective order or otherwise acts to seal a docket entry.

ROUTINE USES OF RECORDS MAINTAINED IN THE SYSTEM, INCLUDING CATEGORIES OF USERS AND THE PURPOSES OF SUCH USES:

(A) Release of Information to Former Employees: The Department of Justice may disclose relevant and necessary information to a former employee of the Department for purposes of: responding to an official inquiry by a Federal, state, or local government entity or professional licensing authority, in accordance with applicable Department regulations; or facilitating communications with a former employee that may be necessary for personnel-related or other official purposes where the Department requires information and/or consultation assistance from the former employee regarding a matter within that person's former area of responsibility.

(B) Release of Information to Contractors: Information from these records may be disclosed to contractors, grantees, experts, consultants, students, and others performing or working on a contract, service, grant, cooperative agreement, or other assignment for the federal government, when necessary to accomplish an agency function related to this system of records.

(C) Release of Information in Proceedings: Information from these records may be disclosed in an appropriate proceeding before a court, or administrative or adjudicative body, when the Department of Justice determines that the records are arguably relevant to the proceeding; or in an appropriate proceeding before an administrative or adjudicative body when the adjudicator holds the records to be relevant to the proceeding.

(D) Release of Information for Litigation-related Discussions: Information from these records may be disclosed to an actual or potential party to litigation or the party's authorized representative for the purpose of negotiation or discussion on such matters as settlement, plea bargaining, or in informal discovery proceedings.

(E) Release of Information to Bankruptcy Trustees: Information from these records may be disclosed to a trustee under Chapters 7, 11, 12 or 13 of Title 11, U.S. Code, when the United States Trustee determines that the release of such information is necessary to enable the trustee to properly administer a case or to perform the duties and responsibilities of a case trustee under 28 U.S.C. 586, 18 U.S.C. 3057, or 11 U.S.C. 101, et seq.

(F) Release of Information to Complainants and Victims: Information from these records may be disclosed to complainants and/or victims to the extent necessary to provide such persons with information and explanations concerning the progress and/or results of the investigation or case arising from the matters of which they complained and/or of which they were a victim.

(G) Release of Information to the News Media: Information from these records may be disclosed to the news media and the public pursuant to 28 CFR 50.2 unless it is determined that release of the specific information in the context of a particular case would constitute an unwarranted invasion of personal privacy.

(H) Release of Information to Members of Congress: Information from these records may be disclosed to a Member of Congress, or staff acting upon the Member's behalf, when the Member or staff requests the information on behalf of, and at the request of, the individual who is the subject of the record.

(I) Release of Information to NARA and GSA: A record from this system of records may be disclosed to the National Archives and Records Administration (NARA) and the General Services Administration (GSA) for records management inspections conducted under the authority of 44 U.S.C. 2904 and 2906, et seq.

(J) Release of Information to Law Enforcement or Regulatory Agencies: Where a record, either on its face or in conjunction with other information, indicates a violation or potential violation of law—criminal, civil, or regulatory in nature—the relevant records may be referred to the appropriate federal, state, local, tribal, or foreign law enforcement authority or other appropriate agency charged with the responsibility of investigating or prosecuting such a violation or enforcing or implementing such law.

(K) Release of Information to Licensing Agencies: Information from these records may be disclosed to federal, state, local, tribal, or foreign licensing agencies or associations which require information concerning the suitability or eligibility of an individual for a license or permit.

(L) Release of Information for Employment, Clearance, Contract, or Grant Purposes: Information from these records may be disclosed to appropriate officials and employees of a federal agency or entity which requires information relevant to a decision concerning the hiring, appointment, or retention of an employee; the issuance, renewal, suspension, or revocation of a security clearance; the execution of a security or suitability investigation; the letting of a contract, or the issuance of a grant or benefit.

(M) Release of Information to Credit/Consumer Reporting Agencies: Information from these records may be disclosed to a credit or consumer reporting agency, as such terms are used in the Fair Credit Reporting Act (15 U.S.C. 1681, et seq.) and the Debt Collection Act (31 U.S.C. 3701, et seq.), when such information is necessary or appropriate to ensure that bankruptcy-related credit information is correct and accurate.

POLICIES AND PRACTICES FOR STORING, RETRIEVING, ACCESSING, RETAINING, AND DISPOSING OF RECORDS IN THE SYSTEM:

STORAGE:

Records in this system, except as specified below, are recorded on paper/cardboard material and maintained in file cabinets, storage containers, electric file/card retrievers, or safes. Certain records in this system are entered into automated information systems and stored on magnetic disks for use or reproduction in report form at various times.

RETRIEVABILITY:

In USTP field offices, bankruptcy case records are retrieved by bankruptcy court case numbers, cross-referenced alphabetically by names of debtors. Bankruptcy case records pertaining to case trustees, sureties, depository banks and to agents representing parties are maintained and retrieved alphabetically. Bankruptcy case records in the Executive Office are maintained and retrieved alphabetically by name of the debtor, or the particular person involved. Automated information is retrieved by a variety of key words, including names of individuals.

SAFEGUARDS:

Records contained in this system are unclassified. They are safeguarded and protected in accordance with Departmental rules and procedures governing the handling of office records and computerized information. During duty hours, access to this system is monitored and controlled by U.S. Trustee Program personnel. During nonduty hours, offices are locked.

RETENTION AND DISPOSAL:

Chapter 7 no-asset case records may be destroyed six months after the case is closed. Section 341 meeting tapes may be destroyed two years after the date of the 341 meeting. Chapter 7 asset case records may be destroyed three years after the case is closed. Chapter 11 case records may be destroyed three years after the case is dismissed or closed. Chapter 12 and chapter 13 case records may be destroyed six months after the case is dismissed or closed. To prevent unauthorized disclosure, records are destroyed by shredding, burning, or similar methods.

SYSTEM MANAGER(S) AND ADDRESS:

The system managers for this system of records are: (a) The U.S. Trustee or Assistant U.S. Trustee, to the extent these records are maintained in their offices; and (b) the General Counsel, to the extent these records are maintained in the Executive Office. (Office addresses can be located on the Internet at http://www.usdoj.gov/ust.)

NOTIFICATION PROCEDURE:

Address such inquiries to the Office of General Counsel (FOIA/Privacy Counsel) at the address listed on the U.S. Trustee Program FOIA/Privacy Act Web site (http://www.usdoj.gov/ust).

The envelope and letter should be clearly marked “Privacy Act Request” and comply with 28 CFR 16.40 et seq.

RECORD ACCESS PROCEDURES:

Address such inquiries to the Office of General Counsel (FOIA/Privacy Counsel) at the address listed on the U.S. Trustee Program FOIA/Privacy Act Web site (http://www.usdoj.gov/ust). The envelope and letter should be clearly marked “Privacy Act Request” and comply with 28 CFR 16.40 et seq.

CONTESTING RECORD PROCEDURES:

Individuals desiring to contest or amend information maintained in the system should clearly and concisely state what information is being contested, the reasons for contesting it, and the proposed amendment to the information. Address such inquiries to the Office of General Counsel (FOIA/Privacy Counsel) at the address listed on the U.S. Trustee Program FOIA/Privacy Act Web site (http://www.usdoj.gov/ust). The envelope and letter should be clearly marked “Privacy Act Request” and comply with 28 CFR 16.40 et seq.

RECORD SOURCE CATEGORIES:

Sources of information contained in this system generally consist of debtors, creditors, trustees, examiners, attorneys, and other agents participating in the administration of a case, judges of the bankruptcy courts and other judicial officers, parties in interest, and employees of the U.S. Trustee Program.

EXEMPTIONS CLAIMED FOR THE SYSTEM:

None.

JUSTICE/UST-002

SYSTEM NAME:

Bankruptcy Trustee Oversight Records

SYSTEM LOCATION:

The Executive Office for United States Trustees (EOUST) and other offices of the United States Trustee Program (USTP) depending upon the judicial district where the bankruptcy case trustee serves or has made application to serve. (Office addresses can be located on the Internet at http://www.usdoj.gov/ust.)

CATEGORIES OF INDIVIDUALS COVERED BY THE SYSTEM:

Persons serving, or applying to, serve as estate trustees in bankruptcy cases filed under Chapters 7, 11, 12, or 13 of the Bankruptcy Code (11 U.S.C. 101 et seq.) and/or subject to USTP oversight pursuant to 28 U.S.C. 586.

CATEGORIES OF RECORDS IN THE SYSTEM:

Records in this system may include: resumes, applications, references, recommendations, and related materials; notes, correspondence, memoranda, messages, and agreements; audits, reviews, evaluations, financial records, transcripts, and security clearance information; social security numbers, financial account numbers, and other personal identifiers; and other information provided to USTP by trustees, applicants, and third parties or developed by U.S. Trustee Program personnel.

AUTHORITY FOR MAINTENANCE OF THE SYSTEM:

This system is established and maintained pursuant to the bankruptcy oversight and related responsibilities of the United States Trustee Program under, e.g., 28 U.S.C. 581, et seq., and 11 U.S.C. 101, et seq.

PURPOSE:

These records are used by U.S. Trustee Program personnel for determining and reassessing the qualifications and eligibility of persons serving or applying to serve as trustees in bankruptcy cases.

ROUTINE USES OF RECORDS MAINTAINED IN THE SYSTEM, INCLUDING CATEGORIES OF USERS AND THE PURPOSES OF SUCH USES:

(A) Release of Information to Former Employees: The Department of Justice may disclose relevant and necessary information to a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

(B) Release of Information to Contractors: Information from these records may be disclosed to contractors, grantees, experts, consultants, students, and others performing or working on a contract, service, grant, cooperative agreement, or other assignment for the federal government, when necessary to accomplish an agency function related to this system of records.

(C) Release of Information in Proceedings: Information from these records may be disclosed in an appropriate proceeding before a court, or administrative or adjudicative body, when the Department of Justice determines that the records are arguably relevant to the proceeding; or in an appropriate proceeding before an administrative or adjudicative body when the adjudicator holds the records to be relevant to the proceeding.

(D) Release of Information for Litigation-related Discussions: Information from these records may be disclosed to an actual or potential party to litigation or the party's authorized representative for the purpose of negotiation or discussion on such matters as settlement, plea bargaining, or in informal discovery proceedings.

(E) Release of Information to Bankruptcy Trustees: Information from these records may be disclosed to a trustee under Chapters 7, 11, 12 or 13 of Title 11, U.S. Code, when the United States Trustee determines that the release of such information is necessary to enable the trustee to properly administer a case or to perform the duties and responsibilities of a case trustee under 28 U.S.C. 586, 18 U.S.C. 3057, or 11 U.S.C. 101, et seq.

(F) Release of Information to Complainants and Victims: Information from these records may be disclosed to complainants and/or victims to the extent necessary to provide such persons with information and explanations concerning the progress and/or results of the investigation or case arising from the matters of which they complained and/or of which they were a victim.

(G) Release of Information to the News Media: Information from these records may be disclosed to the news media and the public pursuant to 28 CFR 50.2 unless it is determined that release of the specific information in the context of a particular case would constitute an unwarranted invasion of personal privacy.

(H) Release of Information to Members of Congress: Information from these records may be disclosed to a Member of Congress, or staff acting upon the Member's behalf, when the Member or staff requests the information on behalf of, and at the request of, the individual who is the subject of the record.

(I) Release of Information to NARA and GSA: A record from this system of records may be disclosed to the National Archives and Records Administration (NARA) and the General Services Administration (GSA) for records management inspections conducted under the authority of 44 U.S.C. 2904 and 2906, et seq.

(J) Release of Information to Law Enforcement or Regulatory Agencies: Where a record, either on its face or in conjunction with other information, indicates a violation or potential violation of law—criminal, civil, or regulatory in nature—the relevant records may be referred to the appropriate federal, state, local, tribal, or foreign law enforcement authority or other appropriate agency charged with the responsibility of investigating or prosecuting such a violation or enforcing or implementing such law.

(K) Release of Information to Licensing Agencies: Information from these records may be disclosed to federal, state, local, tribal, or foreign licensing agencies or associations which require information concerning the suitability or eligibility of an individual for a license or permit.

(L) Release of Information to Credit/Consumer Reporting Agencies: Information from these records may be disclosed to a credit or consumer reporting agency, as such terms are used in the Fair Credit Reporting Act (15 U.S.C. 1681, et seq.) and the Debt Collection Act (31 U.S.C. 3701, et seq.), when such information is necessary or appropriate to ensure that bankruptcy-related credit information is correct and accurate.

POLICIES AND PRACTICES FOR STORING, RETRIEVING, ACCESSING, RETAINING, AND DISPOSING OF RECORDS IN THE SYSTEM:

STORAGE:

Records in this system, except as specified below, are recorded on paper/cardboard material and maintained in file cabinets, storage containers, electric file/card retrievers, or safes. Certain records in this system are entered into automated information systems and stored on magnetic disks for use or reproduction in report form at various times.

RETRIEVABILITY:

In USTP field offices, bankruptcy trustee oversight records are filed alphabetically by the trustee's or applicant's name. In EOUST, similar records are maintained alphabetically, organized by region. Automated information is retrieved by a variety of key words, including names of individuals.

SAFEGUARDS:

Records contained in this system are unclassified. They are safeguarded and protected in accordance with Departmental rules and procedures governing the handling of official records and computerized information. During duty hours, access to this system is monitored and controlled by U.S. Trustee Program office personnel. During nonduty hours, offices are locked.

RETENTION AND DISPOSAL:

Bankruptcy trustee oversight records may be destroyed after three years except in the following circumstances. If the trustee dies, his/her trustee oversight records may be destroyed after one year. Case Trustee Interim Reports may be destroyed after five years. To prevent unauthorized disclosure, records are destroyed by shredding, burning, or similar methods.

SYSTEM MANAGER(S) AND ADDRESS:

The system managers for this system of records are: (a) The U.S. Trustee or Assistant U.S. Trustee, to the extent these records are maintained in their offices; and (b) the Assistant Director, Office of Review and Oversight, to the extent these records are maintained in the Executive Office. (Office addresses can be located on the Internet at http://www.usdoj.gov/ust.)

NOTIFICATION PROCEDURE:

Address such inquiries to the Office of General Counsel (FOIA/Privacy Counsel) at the address listed on the U.S. Trustee Program FOIA/Privacy Act Web site (http://www.usdoj.gov/ust). The envelope and letter should be clearly marked “Privacy Act Request” and comply with 28 CFR 16.40 et seq.

RECORD ACCESS PROCEDURES:

Address such inquiries to the Office of General Counsel (FOIA/Privacy Counsel) at the address listed on the U.S. Trustee Program FOIA/Privacy Act Web site (http://www.usdoj.gov/ust). The envelope and letter should be clearly marked “Privacy Act Request” and comply with 28 CFR 16.40 et seq.

CONTESTING RECORD PROCEDURES:

Individuals desiring to contest or amend information maintained in the system should clearly and concisely state what information is being contested, the reasons for contesting it, and the proposed amendment to the information. Address such inquiries to the Office of General Counsel (FOIA/Privacy Counsel) at the address listed on the U.S. Trustee Program FOIA/Privacy Act Web site (http://www.usdoj.gov/ust). The envelope and letter should be clearly marked “Privacy Act Request” and comply with 28 CFR 16.40 et seq.

RECORD SOURCE CATEGORIES:

Sources of information contained in this system generally consist of the applicant, the applicant's references, interested third parties, and/or U.S. Trustee Program personnel.

EXEMPTIONS CLAIMED FOR THE SYSTEM:

None.

JUSTICE/UST-003

SYSTEM NAME:

U.S. Trustee Program Timekeeping Records

SYSTEM LOCATION:

The Executive Office for United States Trustees (EOUST) and other offices of the United States Trustee Program (USTP) depending upon where an employee has been assigned for duty. (Office addresses can be located on the Internet at http://www.usdoj.gov/ust.)

CATEGORIES OF INDIVIDUALS COVERED BY THE SYSTEM:

Nonclerical employees of the U.S. Trustee Program.

CATEGORIES OF RECORDS IN THE SYSTEM:

Records in this system may include USTP employees' names, personal identifiers, and a record of their work time.

AUTHORITY FOR MAINTENANCE OF THE SYSTEM:

This system is established and maintained pursuant to the responsibilities of the United States Trustee Program under, e.g., 28 U.S.C. 581, et seq., and 11 U.S.C. 101, et seq.

PURPOSE:

This system consists of records of the work time of nonclerical employees of the U.S. Trustee program, and is used, e.g., to analyze workload as a basis for requesting and allocating personnel and other resources.

ROUTINE USES OF RECORDS MAINTAINED IN THE SYSTEM, INCLUDING CATEGORIES OF USERS AND THE PURPOSES OF SUCH USES:

(A) Release of Information to Former Employees: The Department of Justice may disclose relevant and necessary information to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

(B) Release of Information to Contractors: Information from these records may be disclosed to contractors, grantees, experts, consultants, students, and others performing or working on a contract, service, grant, cooperative agreement, or other assignment for the federal government, when necessary to accomplish an agency function related to this system of records.

(C) Release of Information to Members of Congress: Information from these records may be disclosed to a Member of Congress, or staff acting upon the Member's behalf, when the Member or staff requests the information on behalf of, and at the request of, the individual who is the subject of the record.

(D) Release of Information to NARA and GSA: A record from this system of records may be disclosed to the National Archives and Records Administration (NARA) and the General Services Administration (GSA) for records management inspections conducted under the authority of 44 U.S.C. 2904 and 2906, et seq.

(E) Release of Information in Proceedings: Information from these records may be disclosed in an appropriate proceeding before a court, or administrative or adjudicative body, when the Department of Justice determines that the records are arguably relevant to the proceeding; or in an appropriate proceeding before an administrative or adjudicative body when the adjudicator holds the records to be relevant to the proceeding.

POLICIES AND PRACTICES FOR STORING, RETRIEVING, ACCESSING, RETAINING, AND DISPOSING OF RECORDS IN THE SYSTEM:

STORAGE:

Records in this system, except as specified below, are recorded on paper/cardboard material and maintained in file cabinets, storage containers, electric file/card retrievers, or safes. Certain records in this system are entered into automated information systems and stored on magnetic disks for use or reproduction in report form at various times.

RETRIEVABILITY:

In USTP field offices, U.S. Trustee Program timekeeping records are maintained by the name of the employee. In EOUST, such records are maintained and organized by the name of the employee. Automated information is retrieved by a variety of key words.

SAFEGUARDS:

Records contained in this system are unclassified. They are safeguarded and protected in accordance with Departmental rules and procedures governing the handling of official records and computerized information. During duty hours, access to this system is monitored and controlled by U.S. Trustee Program office personnel. During nonduty hours, offices are locked.

RETENTION AND DISPOSAL:

These records may be destroyed by shredding, burning, or similar methods after being audited or when three years old.

SYSTEM MANAGER(S) AND ADDRESS:

The system managers for this system of records are: (a) The U.S. Trustee or Assistant U.S. Trustee, to the extent these records are maintained in their offices; and (b) the Office of the Director, to the extent these records are maintained in the Executive Office. (Office addresses can be located on the Internet at http://www.usdoj.gov/ust.)

NOTIFICATION PROCEDURE:

Address such inquiries to the Office of General Counsel (FOIA/Privacy Counsel) at the address listed on the U.S. Trustee Program FOIA/Privacy Act Web site (http://www.usdoj.gov/ust). The envelope and letter should be clearly marked “Privacy Act Request” and comply with 28 CFR 16.40 et seq.

RECORD ACCESS PROCEDURES:

Address such inquiries to the Office of General Counsel (FOIA/Privacy Counsel) at the address listed on the U.S. Trustee Program FOIA/Privacy Act Web site (http://www.usdoj.gov/ust). The envelope and letter should be clearly marked “Privacy Act Request” and comply with 28 CFR 16.40 et seq.

CONTESTING RECORD PROCEDURES:

Individuals desiring to contest or amend information maintained in the system should clearly and concisely state what information is being contested, the reasons for contesting it, and the proposed amendment to the information. Address such inquiries to the Office of General Counsel (FOIA/Privacy Counsel) at the address listed on the U.S. Trustee Program FOIA/Privacy Act Web site (http://www.usdoj.gov/ust). The envelope and letter should be clearly marked “Privacy Act Request” and comply with 28 CFR 16.40 et seq.

RECORD SOURCE CATEGORIES:

Sources of information contained in this system generally consist of U.S. Trustee Program personnel.

EXEMPTIONS CLAIMED FOR THE SYSTEM:

None.

JUSTICE/UST-004

SYSTEM NAME:

U.S. Trustee Program Case Referral System

SYSTEM LOCATION:

The Executive Office for United States Trustees (EOUST) and other offices of the United States Trustee Program (USTP), depending on where the acts under investigation occurred. (Office addresses can be located on the Internet at http://www.usdoj.gov/ust.)

CATEGORIES OF INDIVIDUALS COVERED BY THE SYSTEM:

Entities and individuals involved in the bankruptcy process who are suspected of having engaged in criminal conduct or of having violated other Federal laws, and whose activities have been or may be investigated or reported by the U.S. Trustee Program to a U.S. Attorney to other law enforcement authorities for investigation, prosecution, or other action pursuant to 28 U.S.C. 586, 18 U.S.C. 3057, or other legal authority.

CATEGORIES OF RECORDS IN THE SYSTEM:

Records in this system may include information associated with a referral to law enforcement authorities in connection with bankruptcy proceedings or related matters arising under 11 U.S.C. 101 et seq. or 28 U.S.C. 581, et seq. This system may contain information pertaining to the subject of the referral, who may be a debtor, creditor, party in interest, or any other entity associated with the bankruptcy or other proceedings. This system may also contain information about the proceedings with which the subject of the referral is associated. Such information may include the subject's name, address, date of birth, social security number, financial account numbers, or other personal identifiers; a chronological account of the incident(s); the source of the information, including confidential sources, if any; witnesses' names, addresses, and other personal identifiers; the law enforcement agency to which the referral is made; the status or final disposition of the referral; the case number, chapter, and status of any related proceedings; the bankruptcy trustee/examiner's name, address, phone number, and other personal identifiers; the judge assigned to the case; and such other case data as may be furnished to or available in the records of the court or of the U.S. Trustee Program.

AUTHORITY FOR MAINTENANCE OF THE SYSTEM:

This system is established and maintained pursuant to the responsibilities of the United States Trustee Program under, e.g., 28 U.S.C. 581, et seq., 11 U.S.C. 101, et seq., and 18 U.S.C. 3057.

PURPOSE(S):

The purposes of this system are to assist the U.S. Trustees: (1) In supervising the administration of cases and trustees in cases and proceedings filed under the Bankruptcy Code (11 U.S.C. 101, et seq.); (2) in carrying out their congressional mandate “to serve as bankruptcy watch-dogs to prevent fraud, dishonesty, and overreaching in the bankruptcy arena” (H.R. Rep. No. 595, 95th Cong., 2d Sess. 88 (1978)); and (3) in complying with 18 U.S.C. 3057, which directs trustees to report for investigation any instance where there are reasonable grounds for believing that there has been a violation of Federal laws relating to insolvent debtors or reorganization plans. The U.S. Trustee Program may inform the appropriate law enforcement authorities when fraud or other violations of Federal law are suspected or discovered in a bankruptcy case and will maintain records thereof described under “Categories of Records in the System” (above). The data will be used for Program-wide evaluation purposes, for statistical purposes, and to track the number, type, and outcome of cases referred for investigation.

ROUTINE USES OF RECORDS MAINTAINED IN THE SYSTEM, INCLUDING CATEGORIES OF USERS AND PURPOSES OF SUCH USES:

(A) Release of Information to Former Employees: The Department of Justice may disclose relevant and necessary information to a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

(B) Release of Information to Contractors: Information from these records may be disclosed to contractors, grantees, experts, consultants, students, and others performing or working on a contract, service, grant, cooperative agreement, or other assignment for the federal government, when necessary to accomplish an agency function related to this system of records.

(C) Release of Information in Proceedings: Information from these records may be disclosed in an appropriate proceeding before a court, or administrative or adjudicative body, when the Department of Justice determines that the records are arguably relevant to the proceeding; or in an appropriate proceeding before an administrative or adjudicative body when the adjudicator holds the records to be relevant to the proceeding.

(D) Release of Information for Litigation-related Discussions: Information from these records may be disclosed to an actual or potential party to litigation or the party's authorized representative for the purpose of negotiation or discussion on such matters as settlement, plea bargaining, or in informal discovery proceedings.

(E) Release of Information to Bankruptcy Trustees: Information from these records may be disclosed to a trustee under Chapters 7, 11, 12 or 13 of Title 11, U.S. Code, when the United States Trustee determines that the release of such information is necessary to enable the trustee to properly administer a case or to perform the duties and responsibilities of a case trustee under 28 U.S.C. 586, 18 U.S.C. 3057, or 11 U.S.C. 101, et seq.

(F) Release of Information to Complainants and Victims: Information from these records may be disclosed to complainants and/or victims to the extent necessary to provide such persons with information and explanations concerning the progress and/or results of the investigation or case arising from the matters of which they complained and/or of which they were a victim.

(G) Release of Information to the News Media: Information from these records may be disclosed to the news media and the public pursuant to 28 CFR 50.2 unless it is determined that release of the specific information in the context of a particular case would constitute an unwarranted invasion of privacy.

(H) Release of Information to Members of Congress: Information from these records may be disclosed to a Member of Congress, or staff acting on the Member's behalf, when the Member or staff requests the information on behalf of, and at the request of, the individual to whom the records pertain.

(I) Release of Information to NARA and GSA: These records may be disclosed to the National Archives and Records Administration (NARA) and the General Services Administration (GSA) in records management inspections conducted under the authority of 44 U.S.C. 2904 and 2906, et seq.

(J) Release of Information to Law Enforcement or Regulatory Agencies: Where a record, either on its face or in conjunction with other information, indicates a violation or potential violation of law—criminal, civil, or regulatory in nature—the relevant records may be referred to the appropriate federal, state, local, tribal, or foreign law enforcement authority or other appropriate agency charged with the responsibility of investigating or prosecuting such a violation or enforcing or implementing such law.

(K) Release of Information to Licensing Agencies: Information from these records may be disclosed to federal, state, local, tribal, or foreign licensing agencies or associations which require information concerning the suitability or eligibility of an individual for a license or permit.

(L) Release of Information to Judicial Branch: These records may be disclosed to members of the judicial branch of the Federal Government where disclosure appears relevant to the authorized function of the recipient judicial office or court system under 18 U.S.C. 3057.

(M) Release of Information to Credit/Consumer Reporting Agencies: Information from these records may be disclosed to a credit or consumer reporting agency, as such terms are used in the Fair Credit Reporting Act (15 U.S.C. 1681, et seq.) and the Debt Collection Act (31 U.S.C. 3701, et seq.), when such information is necessary or appropriate to ensure that bankruptcy-related credit information is correct and accurate.

POLICIES AND PRACTICES FOR STORING, RETRIEVING, ACCESSING, RETAINING, AND DISPOSING OF RECORDS IN THE SYSTEM:

STORAGE:

Records in this system, except as specified below, are recorded on paper/cardboard material and maintained in file cabinets, storage containers, electric file/card retrievers, or safes. Certain records in this system are entered into automated information systems and stored on magnetic disks for use or reproduction in report form at various times.

RETRIEVABILITY:

In EOUST and in USTP field offices, case referral records are filed alphanumerically or chronologically. Automated information is retrieved by a variety of key words, including names of individuals or other personal identifiers.

SAFEGUARDS:

Records contained in this system are unclassified but highly sensitive. They are safeguarded and protected in accordance with Departmental rules and procedures governing the handling of official records and computerized information. During duty hours, access to this system is monitored and controlled by U.S. Trustee Program office personnel. During nonduty hours, offices are locked. Only those persons with a need to know have access to the records.

RETENTION AND DISPOSAL:

Criminal referral records may be destroyed by shredding, burning, or similar methods five years from the date of the finding of insufficient evidence, declination of prosecution, or the voting of a No True Bill by a Grand Jury.

SYSTEM MANAGER(S) AND ADDRESS:

The system managers for this system of records are: (a) The U.S. Trustee or Assistant U.S. Trustee, to the extent these records are maintained in their offices; and (b) Office of General Counsel and/or Chief of Criminal Enforcement, to the extent these records are maintained in the Executive Office. (Office addresses can be located on the Internet at http://www.usdoj.gov/ust.)

NOTIFICATION PROCEDURE:

Address such inquiries to the Office of General Counsel (FOIA/Privacy Counsel) at the address listed on the U.S. Trustee Program FOIA/Privacy Act Web site (http://www.usdoj.gov/ust). The envelope and letter should be clearly marked “Privacy Act Request” and comply with 28 CFR 16.40 et seq.

RECORD ACCESS PROCEDURES:

Address such inquiries to the Office of General Counsel (FOIA/Privacy Counsel) at the address listed on the U.S. Trustee Program FOIA/Privacy Act Web site (http://www.usdoj.gov/ust). The envelope and letter should be clearly marked “Privacy Act Request” and comply with 28 CFR 16.40 et seq.

CONTESTING RECORD PROCEDURES:

Individuals desiring to contest or amend information maintained in the system should clearly and concisely state what information is being contested, the reasons for contesting it, and the proposed amendment to the information. Address such inquiries to the Office of General Counsel (FOIA/Privacy Counsel) at the address listed on the U.S. Trustee Program FOIA/Privacy Act Web site (http://www.usdoj.gov/ust). The envelope and letter should be clearly marked “Privacy Act Request” and comply with 28 CFR 16.40 et seq.

RECORD SOURCE CATEGORIES:

The records generally contain information obtained by or furnished to the U.S. Trustee Program from: (1) Federal or State court records; (2) debtors or debtors' principals, agents or representatives; (3) informants and interested third parties; and (4) other law enforcement sources.

EXEMPTIONS CLAIMED FOR THE SYSTEM:

The Attorney General has exempted this system of records from subsections (c) (3) and (4); (d); (e) (1), (2) and (3), (e)(4) (G) and (H), (e) (5) and (8); (f) and (g) of the Privacy Act, pursuant to 5 U.S.C. 552a (j)(2) and (k)(2). Rules have been promulgated in accordance with the requirements of 5 U.S.C. 553 (b), (c) and (e) and have been published in the Federal Register. See 28 CFR 16.77.

[FR Doc. 04-4828 Filed 3-3-04; 8:45 am]

BILLING CODE 4410-40-P